SECURITIES AND EXCHANGE COMMISSION

[File No. 500-1]

The Jockey Club, Inc., Juina Mining Corp., Inc. (n/k/a AC Energy, Inc.), Jumbosports, Inc., Just Like Home, Inc., and Just Toys, Inc. (n/k/a Pachinko, Inc.); Order of Suspension of Trading

February 11, 2009.

It appears to the Securities and Exchange Commission that there is a lack of current and accurate information concerning the securities of The Jockey Club, Inc. because it has not filed any periodic reports since the period ended July 31, 1995.

It appears to the Securities and Exchange Commission that there is a lack of current and accurate information concerning the securities of Juina Mining Corp., Inc. (n/k/a AC Energy, Inc.) because it has not filed any periodic reports since October 1, 1999.

It appears to the Securities and Exchange Commission that there is a lack of current and accurate information concerning the securities of Jumbosports, Inc. because it has not filed any periodic reports since the period ended July 30, 1999.

It appears to the Securities and Exchange Commission that there is a lack of current and accurate information concerning the securities of Just Like Home, Inc. because it has not filed any periodic reports since the period ended June 30, 2001.

It appears to the Securities and Exchange Commission that there is a lack of current and accurate information concerning the securities of Just Toys, Inc. (n/k/a Pachinko, Inc.) because it has not filed any periodic reports since the period ended September 30, 2000.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 11, 2009, through 11:59 p.m. EST on February 25, 2009.

By the Commission.
Florence E. Harmon,
Deputy Secretary.

[FR Doc. E9-3252 Filed 2-11-09; 4:15 pm]

BILLING CODE 8011-01-P